DEPARTMENT OF COMMERCE

Advisory Committee on Supply Chain Competitiveness: Notice of Public Meeting

AGENCY: International Trade Administration, U.S. Department of Commerce.

ACTION: Notice of open meeting.

SUMMARY: This notice sets forth the schedule and proposed topics of discussion for a public meeting of the Advisory Committee on Supply Chain Competitiveness (Committee).

DATES: This conference call meeting will be held on Wednesday, September 7, 2016, from 4 p.m. to 5:30 p.m. Eastern Daylight Time. The deadline for members of the public to register to participate in or listen to the meeting is 5 p.m., Thursday, September 1, 2016.

ADDRESSES: The meeting will be held by conference call with webinar capabilities. The Web site, call-in number and passcode will be provided by email to registrants. Requests to register and any written comments should be submitted to: Richard Boll, Office of Supply Chain, Professional & Business Services, International Trade Administration (Phone: (202) 482-1135 or Email: richard.boll@trade.gov). Members of the public are encouraged to submit registration requests and written comments via email to ensure timely receipt.

FOR FURTHER INFORMATION CONTACT: Richard Boll, Office of Supply Chain, Professional & Business Services, International Trade Administration. (Phone: (202) 482-1135 or Email: richard.boll@trade.gov)

SUPPLEMENTARY INFORMATION: The Committee was established under the discretionary authority of the Secretary of Commerce and in accordance with the Federal Advisory Committee Act (5 U.S.C. App. 2). It provides advice to the Secretary of Commerce on the necessary elements of a comprehensive policy approach to supply chain competitiveness designed to support U.S. export growth and national economic competitiveness, encourage innovation, facilitate the movement of goods, and improve the competitiveness of U.S. supply chains for goods and services in the domestic and global economy; and provides advice to the Secretary on regulatory policies and programs and investment priorities that affect the competitiveness of U.S. supply chains. For more information about the Committee visit: http://trade.gov/td/services/oscpb/supplychain/acscc/.

Matters To Be Considered: Committee members are expected to deliberate and vote on the ACSCC Freight Policy and Movement Subcommittee's recommendations in response to the Secretary's request for information on the maritime container cargo data elements that U.S. shippers, supply chains, and other seaport users and stakeholders need to be able to have and to share in advance of vessel arrival in the United States in order to:

• Improve coordination, cooperation, and information-sharing among U.S. supply chains and port stakeholders;

• improve supply chain and cargo logistics, planning, and management;

• ensure the availability of sufficient container movement equipment and workforce; and

• improve the efficiency and flow of cargo and trade throughout U.S. supply chains.

The Committee will also discuss how these elements could be used in possible technology solutions that would facilitate element sharing among cargo owners, seaports, and supply chain stakeholders.

The Office of Supply Chain, Professional & Business Services will post the draft recommendations and the final agenda on the Committee Web site at least one week prior to the meeting. Please provide any comments on the draft recommendations to Richard Boll, Office of Supply Chain, Professional & Business Services, International Trade Administration. (Phone: (202) 482-1135 or Email: richard.boll@trade.gov) at least six days prior to the conference call, in order to ensure adequate time to distribute the comments for Committee review. The conference call will be open to the public for comments on a first-come, first-served basis, with thirty minutes available for public comments. Access lines are limited. The minutes of the meetings will be posted on the Committee Web site within 60 days of the meeting.

Dated: August 17, 2016.
Maureen Smith,
Director, Office of Supply Chain, Professional and Business Services.

[FR Doc. 2016-20154 Filed 8-23-16; 8:45 am]

BILLING CODE 3510-DR-P